DEPARTMENT OF DEFENSE

Department of the Navy

Notice of Intent To Grant Exclusive Patent License; goodXense, Inc.

AGENCY: Department of the Navy, DoD.

ACTION: Notice.

SUMMARY: The Department of the Navy hereby gives notice of its intent to grant to goodXense, Inc., a revocable, nonassignable, exclusive license to practice in the field of use of radio frequency (RF) wireless water quality monitoring in the United States and certain foreign countries, the Government-owned inventions described in U.S. Patent No. 6,780,307: Ion Selective Electrodes for Direct Organic Drug Analysis in Saliva, Sweat, and Surface Wipes, Navy Case No. 83,326.//U.S. Patent Application No. 10/833,636: Ion Selective Electrodes for Direct Organic Drug Analysis in Saliva, Sweat, and Surface Wipes, Navy Case No. 96,181.//U.S. Patent Application No. 11/009,849: Multiparameter System for Environmental Monitoring, Navy Case No. 84,717 and any continuations, divisionals or re-issues thereof.

DATES: Anyone wishing to object to the grant of this license must file written objections along with supporting evidence, if any, not later than December 26, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone (202) 767-3083. Due to U.S. Postal delays, please fax (202) 404-7920, e-mail: rita.manak@fxsp0;nrl.navy.mil or use courier delivery to expedite response.

(Authority: 35 U.S.C. 207, 37 CFR Part 404.)

Dated: December 4, 2007.
L.R. Almand,
Judge Advocate General's Corps, U.S. Navy, Federal Register Liaison Officer.

[FR Doc. E7-23859 Filed 12-7-07; 8:45 am]

BILLING CODE 3810-FF-P